DEPARTMENT OF EDUCATION

Notice of Proposed Waivers for the Native American Vocational Technical Education Program (NAVTEP) and the Tribally Controlled Postsecondary Vocational and Technical Institutions Program (TCPVTIP) and Funding of Continuation Grants

AGENCY: Office of Vocational and Adult Education, Department of Education.

SUMMARY: The Secretary proposes to waive the requirements in 34 CFR 75.250 of the Education Department General Administrative Regulations (EDGAR) that generally prohibit project periods exceeding five years and announces the proposed funding of continuation grants for current NAVTEP and TCPVTIP grantees. These waivers would enable the 30 current eligible grantees under NAVTEP and the two current eligible grantees under TCPVTIP to apply for and continue to receive Federal funding beyond the five-year limitation contained in 34 CFR 75.250.

DATES: We must receive your comments on or before May 8, 2006.

ADDRESSES: Address all comments about these proposed waivers to Sharon A. Jones, U.S. Department of Education, 400 Maryland Avenue, SW., room 11108, Potomac Center Plaza, Washington, DC 20202-7242. If you prefer to send your comments through the Internet, use the following address: sharon.jones@ed.gov.

FOR FURTHER INFORMATION CONTACT: Sharon A. Jones; Telephone: (202) 245-7803.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed waivers. We are particularly interested in receiving comments on the potential impact that these proposed waivers may have on NAVTEP and TCPVTIP, and on potential applicants who would be eligible to apply for awards under a NAVTEP or TCPVTIP competition.

During and after the comment period, you may inspect all public comments about these proposed waivers in room 11108, Potomac Center Plaza, 550 12th Street, SW., Washington, DC, between the hours of 8 a.m. and 4 p.m., Eastern time, Monday through Friday of each week, except Federal holidays.

Assistance to Individuals With Disabilities in Reviewing the Rulemaking Record

On request, we will supply an appropriate aid, such as a reader or print magnifier, to an individual with a disability who needs assistance to review the comments or other documents in the public rulemaking record for these proposed waivers. If you want to schedule an appointment for this type of aid, please contact the person listed under FOR FURTHER INFORMATION CONTACT.

Background

NAVTEP and TCPVTIP support grants to operate vocational and technical education programs, as authorized by sections 116(a) through (g) and 117, respectively, of the Carl D. Perkins Vocational and Technical Education Act of 1998 (Perkins Act) (20 U.S.C. 2326(a)-(g) and 2327). The Congress is now in the process of reauthorizing the Perkins Act and we do not believe it would be in the public interest to hold new competitions under either NAVTEP or TCPVTIP until after Congress has concluded that process.

Eligible applicants for fiscal year (FY) 2005 NAVTEP funds (the appropriation currently available for expenditure for NAVTEP) are:

(a) Federally recognized Indian tribes.

(b) Tribal organizations.

(c) Alaska Native entities.

(d) Bureau-funded schools (as defined in the notice inviting applications published in the Federal Register on January 3, 2001 (66 FR 560)), except for Bureau-funded schools proposing to use their award to support secondary school vocational and technical education programs.

(e) Consortia of one or more eligible tribes, tribal organizations, Alaska Native entities, or eligible Bureau-funded schools.

Eligible applicants for FY 2006 TCPVTIP funds (the appropriation currently available for expenditure for TCPVTIP) are tribally controlled postsecondary vocational and technical institutions that do not receive Federal support under the Tribally Controlled College or University Assistance Act of 1978 (25 U.S.C. 1801 et seq.) or the Navajo Community College Act (25 U.S.C. 640a et seq.)

To avoid a lapse in the availability of vocational and technical education and training provided by current NAVTEP and TCPVTIP grantees, the Secretary proposes to waive the requirements in 34 CFR 75.250, which prohibit project periods exceeding five years. With these waivers we would continue to fund current, eligible NAVTEP and TCPVTIP grantees, for as long as Congress continues to appropriate funds for the existing program authorities and possibly during a transition to any new program authorities. We have concluded that it would be contrary to the public interest to have a lapse in NAVTEP and TCPVTIP projects pending reauthorization of the Perkins Act. With these waivers of 34 CFR 75.250: (1) Current NAVTEP and TCPVTIP grants would be continued at least through FY 2006 and possibly beyond, if Congress continues to appropriate funds for NAVTEP or TCPVTIP under their current statutory authorities, and (2) we would not announce new competitions or make new awards under NAVTEP or TCPVTIP in FY 2006.

In a July 16, 2004 Federal Register notice for NAVTEP (69 FR 42701), and in a July 29, 2002 Federal Register notice for TCPVTIP (67 FR 49015), we waived the requirements of 34 CFR 75.261(c)(2), which prohibit project period extensions involving the obligation of additional Federal funds. The waivers of 34 CFR 75.261(c)(2) announced in those notices remain in effect for current NAVTEP and TCPVTIP grantees. If the waivers of 34 CFR 75.250 proposed in this notice are announced by us in a final notice, the requirements applicable to continuation awards for current NAVTEP and TCPVTIP grantees that were established in our July 16, 2004 and July 29, 2002 Federal Register notices, and the requirements in 34 CFR 75.253 would apply to any continuation awards sought by eligible current grantees under these programs.

The waivers of 34 CFR 75.250 and 75.261(c)(2) do not exempt current NAVTEP and TCPVTIP grantees from the account closing provisions of 31 U.S.C. 1552(a), nor do they extend the availability of funds previously awarded to current NAVTEP and TCPVTIP grantees. As a result of 31 U.S.C. 1552(a), appropriations available for a limited period may be used for payment of valid obligations for only five years after the expiration of their period of availability for Federal obligation. After that time, the unexpended balance of those funds is canceled and returned to the U.S. Treasury Department and is unavailable for restoration for any purpose.

Regulatory Flexibility Act Certification

The Secretary certifies that the proposed waivers would not have a significant economic impact on a substantial number of small entities.

The small entities that would be affected by these proposed waivers are:

(a) The FY 2000 grantees currently receiving Federal funds and the following entities that are eligible for an award under NAVTEP:

(1) Federally recognized Indian tribes.

(2) Tribal organizations.

(3) Alaska Native entities.

(4) Bureau-funded schools (as defined in the notice inviting applications published in the Federal Register on January 3, 2001 (66 FR 560)), except for Bureau-funded schools proposing to use their award to support secondary school vocational and technical education programs.

(b) The FY 2001 grantees currently receiving Federal funds and other tribally controlled postsecondary vocational and technical institutions that do not receive Federal support under the Tribally Controlled College or University Assistance Act of 1978 (25 U.S.C. 1801 et seq.) or the Navajo Community College Act (25 U.S.C. 640a et seq.) that are eligible for an award under the TCPVTIP.

The Secretary certifies that the proposed waivers would not have a significant economic impact on these entities because the proposed waivers and the activities required to support the additional years of funding would not impose excessive regulatory burdens or require unnecessary Federal supervision. The proposed waivers would impose minimal requirements to ensure the proper expenditure of program funds, including requirements that are standard for continuation awards.

Paperwork Reduction Act of 1995

This notice of proposed waivers does not contain any information collection requirements.

Intergovernmental Review

The NAVTEP and TCPVTIP are not subject to Executive Order 12372 and the regulations in 34 CFR part 79.

Electronic Access to This Document

You may view this document, as well as all other Department of Education documents published in the Federal Register, in text or Adobe Portable Document Format (PDF) on the Internet at the following site: http://www.ed.gov/new/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.101 Native American Vocational and Technical Education Program and 84.245 Tribally Controlled Postsecondary Vocational and Technical Institutions Program.)

Program Authority: 20 U.S.C. 2326(a) through (g) and 20 U.S.C. 2327.

Dated: March 31, 2006.
Beto D. Gonzalez,
Acting Assistant Secretary for Vocational and Adult Education.

[FR Doc. E6-4903 Filed 4-5-06; 8:45 am]

BILLING CODE 4000-01-P